DEPARTMENT OF HEALTH AND HUMAN SERVICES

National Institutes of Health

Center for Scientific Review; Amended Notice of Meeting

Notice is hereby given of a change in the meeting of the Auditory System Study Section, October 16, 2013, 08:00 a.m. to October 17, 2013, 05:00 p.m., Washington Plaza Hotel, 10 Thomas Circle NW., Washington, DC 20005, which was published in the Federal Register on September 17, 2013, 78 FR 57169.

The meeting will be held on November 14, 2013 to November 15, 2013 at the Hyatt Regency Mission Bay, 1441 Quivira Road, San Diego CA 92109. The meeting time remains the same. The meeting is closed to the public.

Dated: October 30, 2013.
David Clary,
Program Analyst, Office of Federal Advisory Committee Policy.

[FR Doc. 2013-26312 Filed 11-1-13; 8:45 am]

BILLING CODE 4140-01-P